DEPARTMENT OF TRANSPORTATION

Federal Motor Carrier Safety Administration

[Docket No. FMCSA-2026-0034]

Qualification of Drivers; Exemption Applications; Epilepsy and Seizure Disorders

AGENCY: Federal Motor Carrier Safety Administration (FMCSA), Department of Transportation (DOT).

ACTION: Notice of applications for exemption; request for comments.

SUMMARY: FMCSA announces receipt of applications from 14 individuals for an exemption from the prohibition in the Federal Motor Carrier Safety Regulations (FMCSRs) against persons with a clinical diagnosis of epilepsy or any other condition that is likely to cause a loss of consciousness or any loss of ability to control a commercial motor vehicle (CMV) to drive in interstate commerce. If granted, the exemptions would enable these individuals who have had one or more seizures and are taking anti-seizure medication to operate CMVs in interstate commerce.

DATES: Comments must be received on or before April 1, 2026.

ADDRESSES: You may submit comments identified by Docket No. FMCSA-2026-0034 using any of the following methods:

• Federal eRulemaking Portal: Go to www.regulations.gov, insert the docket number (FMCSA-2026-0034) in the keyword box and click “Search.” Next, choose the only notice listed, and click on the “Comment” button. Follow the online instructions for submitting comments.

• Mail: Dockets Operations, U.S. Department of Transportation, 1200 New Jersey Avenue SE, W58-213, Washington, DC 20590-0001.

• Hand Delivery or Courier: Dockets Operations, U.S. Department of Transportation, 1200 New Jersey Avenue SE, W58-213, Washington, DC 20590-0001, between 9 a.m. and 5 p.m., Monday through Friday, except Federal holidays. To be sure someone is there to help you, please call (202) 366-9317 or (202) 366-9826 before visiting Dockets Operations.

• Fax: (202) 493-2251.

To avoid duplication, please use only one of these four methods. See the “Public Participation” portion of the SUPPLEMENTARY INFORMATION section for instructions on submitting comments.

FOR FURTHER INFORMATION CONTACT: Ms. Christine A. Hydock, Chief, Medical Programs Division, FMCSA, DOT, 1200 New Jersey Avenue SE, Washington, DC 20590-0001; (202) 366-4001; fmcsamedical@dot.gov. Office hours are 8:30 a.m. to 5 p.m. ET Monday through Friday, except Federal holidays. If you have questions regarding viewing or submitting material to the docket, contact Dockets Operations, (202) 366-9826.

SUPPLEMENTARY INFORMATION:

I. Public Participation

A. Submitting Comments

If you submit a comment, please include the docket number for this notice (FMCSA-2026-0034), indicate the specific section of this document to which each comment applies, and provide a reason for each suggestion or recommendation. You may submit your comments and material online or by fax, mail, or hand delivery, but please use only one of these means. FMCSA recommends that you include your name and a mailing address, an email address, or a phone number in the body of your document so that FMCSA can contact you if there are questions regarding your submission.

To submit your comment online, go to https://www.regulations.gov/docket/FMCSA-2026-0034. Next, choose the only notice listed, click the “Comment” button, and type your comment into the text box on the following screen. Choose whether you are submitting your comment as an individual or on behalf of a third party and then submit.

If you submit your comments by mail or hand delivery, submit them in an unbound format, no larger than 8½ by 11 inches, suitable for copying and electronic filing. FMCSA will consider all comments and material received during the comment period.

B. Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this notice.

C. Viewing Comments

To view comments, go to www.regulations.gov, insert the docket number (FMCSA-2026-0034) in the keyword box and click “Search.” Next, choose the only notice listed, and click “Browse Comments.” If you do not have access to the internet, you may view the docket online by visiting Dockets Operations on the ground floor of the DOT West Building, 1200 New Jersey Avenue SE, Washington, DC 20590-0001, between 9 a.m. and 5 p.m. ET Monday through Friday, except Federal holidays. To be sure someone is there to help you, please call (202) 366-9317 or (202) 366-9826 before visiting Dockets Operations.

D. Privacy Act

In accordance with 49 U.S.C. 31315(b)(6), DOT solicits comments from the public on the exemption request. DOT posts these comments, including any personal information the commenter provides, to www.regulations.gov, as described in the system of records notice DOT/ALL-14 FDMS (Federal Docket Management System), which can be reviewed under the “Department Wide System of Records Notices” link at https://www.transportation.gov/individuals/privacy/privacy-act-system-records-notices. The comments are posted without edit and are searchable by the name of the submitter.

II. Legal Basis

FMCSA has authority under 49 U.S.C. 31136(e) and 31315(b) to grant exemptions from the FMCSRs. FMCSA must publish a notice of each exemption request in the Federal Register (49 CFR 381.315(a)). The Agency must provide the public an opportunity to inspect the information relevant to the application, including the applicant's safety analysis. The Agency must provide an opportunity for public comment on the request.

The Agency reviews the application, safety analyses, and public comments submitted and determines whether granting the exemption would likely achieve a level of safety equivalent to, or greater than, the level that would be achieved absent such exemption, pursuant to the standard set forth 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)). FMCSA grants medical exemptions from the FMCSRs for a 2-year period to align with the maximum duration of a driver's medical certification.

III. Background

The physical qualification standard for drivers regarding seizures and loss of consciousness provides that a person is physically qualified to drive a CMV if that person has “no established medical history or clinical diagnosis of epilepsy or any other condition which is likely to cause the loss of consciousness or any loss of ability to control” a CMV (49 CFR 391.41(b)(8)). To assist in applying this standard, FMCSA publishes guidance for medical examiners (ME) in the form of medical advisory criteria in Appendix A to 49 CFR part 391.¹ In 2007, FMCSA published recommendations from a Medical Expert Panel (MEP) that FMCSA tasked to review the existing seizure disorder guidelines for MEs.² The MEP performed a comprehensive, systematic literature review, including evidence available at the time. The MEP issued recommended criteria to evaluate whether an individual with a history of epilepsy, a single unprovoked seizure, or a provoked seizure should be allowed to drive a CMV.

¹ Appendix A to Part 391, Title 49, available at https://www.ecfr.gov/current/title-49/part-391/appendix-Appendix A to Part 391.

² “Expert Panel Recommendations, Seizure Disorders and Commercial Motor Vehicle Driver Safety,” Medical Expert Panel (Oct. 15, 2007), available at https://www.fmcsa.dot.gov/sites/fmcsa.dot.gov/files/2020-04/Seizure-Disorders-MEP-Recommendations-v2-prot%2010152007.pdf.

On January 15, 2013, FMCSA began granting exemptions, on a case-by-case basis, to individual drivers from the physical qualification standard regarding seizures and loss of consciousness in 49 CFR 391.41(b)(8) (78 FR 3069). The Agency considers the medical advisory criteria, the 2007 MEP recommendations, any public comments received, and each individual's medical information and driving record in deciding whether to grant the exemption.

The 14 individuals listed in this notice have requested an exemption from the epilepsy and seizure disorders prohibition in 49 CFR 391.41(b)(8). Accordingly, the Agency will evaluate the qualifications of each applicant to determine whether granting the exemption will achieve the required level of safety mandated by statute.

IV. Qualifications of Applicants

Jeffrey Bagley

Jeffrey Bagley is a 33-year-old class DV license holder in Alabama. He has a history of seizure disorder and has been seizure free since 2004. He takes an anti-seizure medication with the dosage and frequency remaining the same since May 2017. His physician states that they are supportive of him receiving an exemption.

Karl Brun

Karl Brun is a 62-year-old class CM1 license holder in California. He has a history of temporal lobe epilepsy and has been seizure free since May 17, 2012. He takes an anti-seizure medication with the dosage and frequency remaining the same since 2012. His physician states that they are supportive of him receiving an exemption.

Gilbert Cardoso

Gilbert Cardoso is a 57-year-old class D license holder in Massachusetts. He has a history of seizures and has been seizure free since September 15, 2017. He takes an anti-seizure medication with the dosage and frequency remaining the same since November 15, 2021. His physician states that they are supportive of him receiving an exemption.

Alma Rodriguez De Cervantes

Alma Rodriguez De Cervantes is a 39-year-old class C license holder in California. She has a history of epilepsy and has been seizure free since March 2010. She takes an anti-seizure medication with the dosage and frequency remaining the same since August 20, 2013. Her physician states that they are supportive of her receiving an exemption.

Damond Collins

Damond Collins is a 47-year-old class CA commercial driver's license (CDL) holder in Delaware. He has a history of a seizure disorder and has been seizure free since 2003. He takes an anti-seizure medication with the dosage and frequency remaining the same since 2003. His physician states that they are supportive of him receiving an exemption.

Jack Duffek

Jack Duffek is a 24-year-old class C license holder in California. He has a history of seizure disorder and has been seizure free since May 2014. He takes an anti-seizure medication with the dosage and frequency remaining the same since May 2014. His physician states that they are supportive of him receiving an exemption.

Andrew Gagnon

Andrew Gagnon is a 22-year-old class D license holder in New Hampshire. He has a history of benign rolandic epilepsy and has been seizure free since 2015. He does not take anti-seizure medication. His physician states that they are supportive of him receiving an exemption.

Peyton Jones

Peyton Jones is a 22-year-old class CM license holder in Pennsylvania. He has a history of epilepsy and has been seizure free since 2015. He takes an anti-seizure medication with the dosage and frequency remaining the same since August 2016. His physician states that they are supportive of him receiving an exemption.

James Klucas

James Klucas is a 56-year-old class A CDL holder in Kansas. He has a history of generalized epilepsy and has been seizure free since 1999. He takes an anti-seizure medication with the dosage and frequency remaining the same since August 18, 2023. His physician states that they are supportive of him receiving an exemption.

Shane Kreh

Shane Kreh is a 23-year-old class C driver's license holder in Maryland. He has a history of juvenile myoclonic epilepsy and has been seizure free since 2018. He takes an anti-seizure medication with the dosage and frequency remaining the same since 2018. His physician states that they are supportive of him receiving an exemption.

Jarvis McBeth

Jarvis McBeth is a 25-year-old class A CDL holder in South Carolina. He has a history of absence epilepsy and has been seizure free since 2009. He takes an anti-seizure medication with the dosage and frequency remaining the same since 2009. His physician states that they are supportive of him receiving an exemption.

James Sager

James Sager is a 24-year-old class C license holder in Pennsylvania. He has a history of localization-related symptomatic epilepsy and has been seizure free since 2008. He takes an anti-seizure medication with the dosage and frequency remaining the same since 2008. His physician states that they are supportive of him receiving an exemption.

Richard Smith

Richard Smith is a 66-year-old class EM license holder in New York. He has a history of epilepsy and has been seizure free since December 2014. He takes an anti-seizure medication with the dosage and frequency remaining the same since 2022. His physician states that they are supportive of him receiving an exemption.

Cody Wheeler

Cody Wheeler is a 25-year-old class A CDL holder in Wyoming. He has a history of epilepsy and has been seizure free since 2015. He takes an anti-seizure medication with the dosage and frequency remaining the same since 2023. His physician states that they are supportive of him receiving an exemption.

V. Request for Comments

In accordance with 49 U.S.C. 31136(e) and 31315(b), FMCSA requests public comment from all interested persons on the exemption applications described in this notice. FMCSA will consider all comments received before the close of business on the closing date indicated under the DATES section of the notice.

Larry W. Minor,
Associate Administrator for Policy.

[FR Doc. 2026-04056 Filed 2-27-26; 8:45 am]

BILLING CODE 4910-EX-P